DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Prevention Program Outcomes Monitoring System (PPOMS)—New—Section 516 of the Public Health Service Act [42 U.S.C. 290bb-22] directs SAMHSA's CSAP to “address priority substance abuse prevention needs of regional and national significance through the provision of knowledge development and application projects for prevention and the conduct or support of evaluations of such projects”.

Since 1999, CSAP has used the National Registry of Effective Prevention Programs (NREPP, OMB No. 0920-0210) to review and rate substance abuse prevention programs utilized nationwide. Through NREPP, CSAP has expanded its information collection to include programs conducted by entities external to CSAP, including state and local governments, nonprofit entities, and the private sector. Programs that are well implemented, rigorously evaluated, produce consistent positive results, and are able to assist in the dissemination effort are selected as model programs. Model programs are then promoted to substance abuse professionals and practitioners nationwide through various channels, including CSAP's State Initiative Grant recipients.

PPOMS is a national probability sample of schools (public and private, serving grades K-12), colleges (2- and 4-year, private and public), youth agencies and other community organizations and community coalitions to quantify the extent of the field application of NREPP identified science-based prevention programs. PPOMS will also examine such parameters as program fidelity and adaptation, for science-based prevention programs identified through NREPP, as well as documented outcomes of program effectiveness.

PPOMS utilizes a data collection system that will consider several parameters related to CSAP science-based program replication. PPOMS will: gauge practitioner access to CSAP science-based materials and programs, estimate the proportion of practitioners replicating these programs, quantify and explain barriers to replication and facilitating structures and mechanisms that aid in program replication, document the degree of fidelity and adaptations of program replications, and measure program replication outcomes. Knowledge of these factors will allow CSAP to better direct its dissemination of NREPP identified programs, provide access to training and technical assistance for practitioners, and gain a more comprehensive understanding of the decision making processes involved in choosing NREPP identified programs for replication.

Data derived from the Prevention Program Outcomes Monitoring Systems (PPOMS) will be used by the Center for Substance Abuse Prevention (CSAP) to determine the extent, magnitude, and effectiveness of CSAP's science-based program replications. The Prevention Programs Outcomes Monitoring System will determine the efficacy of NREPP in identifying, promoting, and disseminating the best science based substance abuse prevention programs to the field and subsequently, to the American public. The final report of PPOMS findings will contain appropriate information for use by governmental agencies, private organizations, and nonprofit entities.

Annual burden estimates for PPOMS are shown in the following table.

Form name | Number of respondents | Responses/respondent | Hours/response | Total hour burden
Screener | 1,080 | 1 | .17 | 184
Survey scheduling post card | 1,080 |  | .08 | 86
Survey | 1,080 | 1 | .333 | 508
Total | 1,080 |  |  | 778

Written comments and recommendations concerning the proposed information collection should be sent within 30 days of this notice to: Allison Herron Eydt, Human Resources and Housing Branch, Office of Management and Budget, New Executive Office Building, Room 10235, Washington, DC 20503.

Dated: December 11, 2002.
Richard Kopanda,
Executive Officer, SAMHSA.

[FR Doc. 02-32332 Filed 12-23-02; 8:45 am]

BILLING CODE 4162-20-P